ENVIRONMENTAL PROTECTION AGENCY

[FRL-6985-1]

Science Advisory Board; Notification of Public Advisory Committee Meetings

Pursuant to the Federal Advisory Committee Act, Public Law 92-463, notice is hereby given that the National-Scale Air Toxics Assessment (NATA) Review Panel (hereafter, “NATA Review Panel”) of the USEPA Science Advisory Board's (SAB) Executive Committee (EC) will meet on the dates and times noted below. All times noted are Eastern Standard Time. All meetings are open to the public; however, seating is limited and available on a first come basis. Important Notice: Documents that are the subject of SAB reviews are normally available from the originating EPA office and are not available from the SAB Office—information concerning availability of documents from the relevant Program Office is included below.

1. EC/NATA Review Panel Conference Call—May 25, 2001

The NATA Review Panel will conduct a public conference call as a technical editing working session on Friday, May 25, 2001 from 10 am to 12 noon (Eastern Standard Time). The call will be hosted out of the EPA Science Advisory Board Conference Room (Room 6013), Ariel Rios Federal Building, 1200 Pennsylvania Avenue, NW., Washington, DC 20004. Interested members of the public may attend in person or connect to the conference by phone. The original purpose of the call was to provide Panel Members with the opportunity to reach closure and to receive public comments on the draft report. However, during the May 14 public conference call, the NATA Panelists requested additional time to edit the draft report (see 66 FR 24137, May 11, 2001). It is anticipated that the draft report, once it becomes a consensus draft, will also be posted on the SAB website. It is now anticipated to be posted around June 1, 2001. See below for details of the review, to request any supplemental materials from the Agency or ask questions on materials already received from the Agency.

Providing Public Comments—The NATA Review Panel will not be accepting public comments at this conference call, because this will be a continued technical editing working session for the NATA Review Panel to complete its preparation of the public draft report. Oral and written public comments were previously accepted at the March 20-21, 2001 meeting in review of this topic.

Availability of Review Materials—All the Agency OAQPS NATA-related review and informational materials, including the NATA Report, the Appendices, all briefing and presentation materials previously provided to the SAB and may be obtained on the web at the following URL site: http://www.epa.gov/ttn/uatw/sab/sabrev.html/. Further information on obtaining the Agency's review document and supporting appendices is found in previous FR notices (see 66 FR 9846, February 12, 2001 and 66 FR 24137, May 11, 2001).

For Further Information: Members of the public desiring additional information about the meeting should contact Dr. K. Jack Kooyoomjian, Designated Federal Officer (DFO), National-Scale Air Toxics Assessment Review Panel, US EPA Science Advisory Board (1400A), U.S. EPA, 1200 Pennsylvania Avenue, NW., Washington, DC 20460 (FedEx address: US EPA Science Advisory Board, Suite 6450, 1200 Pennsylvania Avenue, NW., Washington, DC 20004); telephone/voice mail at (202) 564-4557; fax at (202) 501-0582; or via e-mail at kooyoomjian.jack @epa.gov. To obtain information for logging onto the conference call, please contact Ms. Betty Fortune. The draft agenda will be available approximately one week prior to the meeting on the SAB website (http://www.epa.gov/sab) or from Ms. Betty Fortune at (202) 564-4534; fax: (202) 501-0582; or e-mail at: fortune.betty@epa.gov.

2. EC/NATA Review Panel Conference Call—June 13, 2001

On Wednesday, June 13, 2001, the NATA Review Panel will conduct a public conference call from 11:00 am to 1:00 pm (Eastern Standard Time) to reach closure on its draft report in review of the EPA document entitled “National-Scale Air Toxics Assessment for 1996,” EPA-453/R-01-003, dated January, 2001 and supporting appendices. This EPA document represents an initial national-scale assessment of the potential health risks associated with inhalation exposures to 32 air toxics identified as priority pollutants by the Agency's Integrated Urban Air Toxics Strategy, plus diesel emissions. More information about the previous meetings can be found in 66 FR 9846, February 12, 2001, and 66 FR 24137, May 11, 2001. The NATA Review Panel is commenting on the charge questions which were outlined in the above Federal Register notices and pertain to appropriateness of the overall approach, including the data, models, and methods used, and the ways these elements have been integrated, as well as to suggest ways to improve these approaches for subsequent national-scale assessments. The public and the Agency will be able to comment on three aspects of the NATA Panel's draft report, namely: (1) Has the NATA Review Panel adequately responded to the questions posed in the charge?; (2) Are any statements or responses made in the draft unclear?; and, (3) Are there any technical errors?

Following the June 13, 2001 conference call meeting, the NATA Review Panel plans to revise its draft report and forward it to the SAB Executive Committee for final review and approval, prior to transmittal to the Agency. This review will be announced in a subsequent Federal Register notice.

Providing Comments—In accord with the Federal Advisory Committee Act (FACA), the public and the Agency are invited to submit written or oral comments on the above three questions that are the focus of the review. Requests to make comments should be received by June 6, 2001 by Ms. Betty Fortune, EPA Science Advisory Board, Mail Code 1400A, U.S. Environmental Protection Agency, 1200 Pennsylvania Ave., NW., Washington DC 20460. (Telephone (202) 564-4534, FAX (202) 501-0582; or via e-mail at fortune.betty@epa.gov). The SAB will have a brief period available during the conference call for applicable oral public comment. Therefore, anyone wishing to make oral comments on the three focus questions above, but that are not duplicative of the written comments previously submitted on this topic, must contact Dr. K. Jack Kooyoomjian, Designated Federal Officer for the NATA Review Panel (see contact information below), in writing no later than June 6, 2001. In order to be accepted into the public record, all comments must be received (postmarked) no later than two working days following the meeting.

For Further Information: Any member of the public wishing further information concerning this meeting should contact Dr. K. Jack Kooyoomjian, Designated Federal Officer, US EPA Science Advisory Board (1400A), 1200 Pennsylvania Avenue, NW, Washington, DC 20460-0001; telephone (202) 564-4557; FAX (202) 501-0582; or via e-mail at kooyoomjian.jack@epa.gov. To obtain information on how to participate in the conference call, please contact Ms. Betty Fortune (see contact information below). A draft agenda for the teleconference will be posted on the SAB website (www.epa.gov/sab) approximately one week prior to the conference call.

Providing Oral or Written Comments at SAB Meetings

It is the policy of the Science Advisory Board to accept written public comments of any length, and to accommodate oral public comments whenever possible. The Science Advisory Board expects that public statements presented at its meetings will not be repetitive of previously submitted oral or written statements.

Oral Comments: In general, each individual or group requesting an oral presentation at a face-to-face meeting will be limited to a total time of ten minutes. For conference call meetings, opportunities for oral comment will usually be limited to no more than three minutes per speaker and no more than fifteen minutes total, unless otherwise stated. Deadlines for getting on the public speaker list for a meeting are given above. Speakers should bring at least 35 copies of their comments and presentation slides for distribution to the reviewers and public at the meeting.

Written Comments: Although the SAB accepts written comments until the date of the meeting (unless otherwise stated), written comments should be received in the SAB Staff Office at least one week prior to the meeting date so that the comments may be made available to the committee for their consideration. Comments should be supplied to the appropriate DFO at the address/contact information noted above in the following formats: One hard copy with original signature, and one electronic copy via e-mail (acceptable file formats: WordPerfect, Word, or Rich Text files (in IBM-PC/Windows 95/98 format). Those providing written comments and who attend the meeting are also asked to bring 25 copies of their comments for public distribution.

General Information—Additional information concerning the EPA Science Advisory Board, its structure, function, and composition, may be found on our Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact the appropriate Dr. Kooyoomjian at least five business days prior to the meeting so that appropriate arrangements can be made.

Dated: May 17, 2001.
Donald G. Barnes,
Staff Director, Science Advisory Board.

[FR Doc. 01-13278 Filed 5-24-01; 8:45 am]

BILLING CODE 6560-50-P